DEPARTMENT OF TRANSPORTATION

Federal Aviation Administration

14 CFR Part 71

[Docket No. FAA-2022-0774; Airspace Docket No. 22-AGL-26]

RIN 2120-AA66

Amendment of Class D and Class E Airspace and Revocation of Class E Airspace; La Crosse, WI

AGENCY: Federal Aviation Administration (FAA), DOT.

ACTION: Final rule.

SUMMARY: This action amends the Class D and Class E airspace and revokes Class E airspace at La Crosse, WI. This action due to an airspace review conducted as part of the decommissioning of the La Crosse very high frequency (VHF) omnidirectional range (VOR) as part of the VOR Minimal Operational Network (MON) Program.

DATES: Effective 0901 UTC, December 29, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, Class E surface airspace, and Class E airspace extending upward from 700 feet above the surface and removes the Class E airspace designated as an extension to Class D and Class E surface airspace at La Crosse Regional Airport, La Crosse, WI, to support instrument flight rule operations at this airport.

History

The FAA published a notice of proposed rulemaking in the Federal Register (87 FR 36421; June 17, 2022) for Docket No. FAA-2022-0774 to amend the Class D and Class E airspace and revoke Class E airspace at La Crosse, WI. Interested parties were invited to participate in this rulemaking effort by submitting written comments on the proposal to the FAA. No comments were received.

Class D and E airspace designations are published in paragraphs 5000, 6002, 6004, and 6005, respectively, of FAA Order JO 7400.11F, dated August 10, 2021, and effective September 15, 2021, which is incorporated by reference in 14 CFR 71.1. The Class D and E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This amendment to 14 CFR part 71:

Amends the Class D airspace at La Crosse Regional Airport, La Crosse, WI, by adding an extension 1 mile each side of the 359° bearing from the La Crosse Regional: RWY 18-LOC extending from the 4.4-mile radius of the airport to 5.3 miles north of the airport; adds an extension 1 mile each side of the 359° bearing from the airport extending from the 4.4-mile radius to 5.3 miles north of the airport; adds an extension 1 mile each side of the 036° bearing from the airport extending from the 4.4-mile radius of the airport to 6.2 miles northeast of the airport; adds an extension 1 mile each side of the 119° bearing from the airport extending from the 4.4-mile radius of the airport to 5.7 miles southeast of the airport; adds an extension 1 mile each side of the 216° bearing from the airport extending from the 4.4-mile radius of the airport to 5.6 miles southwest of the airport; and replaces the outdated term “Notice to Airmen” with “Notice to Air Missions”;

Amends the Class E surface airspace at La Crosse Regional Airport by adding an extension 1 mile each side of the 359° bearing from the La Crosse Regional: RWY 18-LOC extending from the 4.4-mile radius of the airport to 5.3 miles north of the airport; adds an extension 1 mile each side of the 359° bearing from the airport extending from the 4.4-mile radius to 5.3 miles north of the airport; adds an extension 1 mile each side of the 036° bearing from the airport extending from the 4.4-mile radius of the airport to 6.2 miles northeast of the airport; adds an extension 1 mile each side of the 119° bearing from the airport extending from the 4.4-mile radius of the airport to 5.7 miles southeast of the airport; adds an extension 1 mile each side of the 216° bearing from the airport extending from the 4.4-mile radius of the airport to 5.6 miles southwest of the airport; removes the 3,200 feet MSL restriction as it is not required; and replaces the outdated term “Notice to Airmen” with “Notice to Air Missions”;

Removes the Class E airspace designated as an extension to Class D and Class E surface areas at La Crosse Regional Airport as these extensions have been incorporated into the Class D airspace and Class E surface airspace and this airspace is no longer required;

And amends the Class E airspace extending upward from 700 feet above the surface at La Crosse Regional Airport by adding an extension 1 mile each side of the 359° bearing from the La Crosse Regional: RWY 18-LOC extending from the 6.9-mile radius of the airport to 7.2 miles north of the airport.

This action is due to an airspace review conducted as part of the decommissioning of the La Crosse VOR, which provided navigation information for the instrument procedures at these airports, as part of the VOR MON Program.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11F, Airspace Designations and Reporting Points, dated August 10, 2021, and effective September 15, 2021, is amended as follows:

Paragraph 5000 Class D Airspace.

* * * * *

AGL WI D La Crosse, WI [Amended]

La Crosse Regional Airport, WI

(Lat. 43°52′45″ N, long. 91°15′24″ W)

La Crosse Regional: RWY 18-LOC

(Lat. 43°52′01″ N, long. 91°15′31″ W)

That airspace extending upward from the surface to and including 3,200 feet MSL within a 4.4-mile radius of La Crosse Regional Airport; and within 1 mile each side of the 359° bearing from the La Crosse Regional: RWY 18-LOC extending from the 4.4-mile radius of the La Crosse Regional Airport to 5.3 miles north of the airport; and within 1 mile each side of the 359° bearing from the La Crosse Regional Airport extending from the 4.4-mile radius of the airport to 5.3 miles north of the airport; and within 1 mile each side of the 036° bearing from the La Crosse Regional Airport extending from the 4.4-mile radius of the airport to 6.2 miles northeast of the airport; and within 1 mile each side of the 119° bearing from the La Crosse Regional Airport extending from the 4.4-mile radius of the airport to 5.7 miles southeast of the airport; and within 1 mile each side of the 216° bearing from the La Crosse Regional Airport extending from the 4.4-mile radius of the airport to 5.6 miles southwest of the airport. This Class D airspace area is effective during the specific dates and times established in advance by a Notice to Air Missions. The effective dates and times will thereafter be continuously published in the Chart Supplement.

Paragraph 6002 Class E Airspace Areas Designated as a Surface Area.

* * * * *

AGL WI E2 La Crosse, WI [Amended]

La Crosse Regional Airport, WI

(Lat. 43°52′45″ N, long. 91°15′24″ W)

La Crosse Regional: RWY 18-LOC

(Lat. 43°52′01″ N, long. 91°15′31″ W)

That airspace extending upward from the surface within a 4.4-mile radius of La Crosse Regional Airport; and within 1 mile each side of the 359° bearing from the La Crosse Regional: RWY 18-LOC extending from the 4.4-mile radius of the La Crosse Regional Airport to 5.3 miles north of the airport; and within 1 mile each side of the 359° bearing from the La Crosse Regional Airport extending from the 4.4-mile radius of the airport to 5.3 miles north of the airport; and within 1 mile each side of the 036° bearing from the La Crosse Regional Airport extending from the 4.4-mile radius of the airport to 6.2 miles northeast of the airport; and within 1 mile each side of the 119° bearing from the La Crosse Regional Airport extending from the 4.4-mile radius of the airport to 5.7 miles southeast of the airport; and within 1 mile each side of the 216° bearing from the La Crosse Regional Airport extending from the 4.4-mile radius of the airport to 5.6 miles southwest of the airport. This Class E airspace area is effective during the specific dates and times established in advance by a Notice to Air Missions. The effective dates and times will thereafter be continuously published in the Chart Supplement.

Paragraph 6004 Class E Airspace Areas Designated as an Extension to a Class D or Class E Surface Area.

* * * * *

AGL WI E4 La Crosse, WI [Remove]

Paragraph 6005 Class E Airspace Areas Extending Upward From 700 feet or More Above the Surface of the Earth.

* * * * *

AGL WI E5 La Crosse, WI [Amended]

La Crosse Regional Airport, WI

(Lat. 43°52′45″ N, long. 91°15′24″ W)

La Crosse Regional: RWY 18-LOC

(Lat. 43°52′01″ N, long. 91°15′31″ W)

Mayo Clinic Health System-Franciscan Healthcare, WI, Point In Space Coordinates

(Lat. 43°47′39″ N, long. 91°14′00″ W)

That airspace extending upward from 700 feet above the surface within a 6.9-mile radius of La Crosse Regional Airport; and within 1 mile each side of the 359° bearing from the La Crosse Regional: RWY 18-LOC extending from the 6.9-mile radius of the La Crosse Regional Airport to 7.2 miles north of the airport; and within 1 mile each side of the 359° bearing from the La Crosse Regional Airport extending from the 6.9-mile radius of the airport to 7.1 miles north of the airport; and within 2.9 miles each side of the 036° bearing from the La Crosse Regional Airport extending from the 6.9-mile radius of the airport to 9.6 mile northeast of the airport; and within 1 mile each side of the 119° bearing from the La Crosse Regional Airport extending from the 6.9-mile radius of the airport to 7.4 mile southeast of the airport; and within 2 miles each side of the 216° bearing from the La Crosse Regional Airport extending from the 6.9-mile radius of the airport to 11.3 miles southwest of the airport; and within a 6-mile radius of the point in space serving Mayo Clinic Health System-Franciscan Healthcare.

Issued in Fort Worth, Texas, on September 6, 2022.
Martin A. Skinner,
Acting Manager, Operations Support Group, ATO Central Service Center.

[FR Doc. 2022-19467 Filed 9-9-22; 8:45 am]

BILLING CODE 4910-13-P